DEPARTMENT OF COMMERCE

National Oceanic and Atmospheric Administration

RIN 0648-XC912

Gulf of Mexico Fishery Management Council; Public Meeting

AGENCY: National Marine Fisheries Service (NMFS), National Oceanic and Atmospheric Administration (NOAA), Commerce.

ACTION: Meeting of the Gulf of Mexico Fishery Management Council.

SUMMARY: The Gulf of Mexico Fishery Management Council (Council) will hold meetings of the: Mackerel, Sustainable Fisheries/Ecosystem, and Reef Fish Management Committees; and a meeting of the Full Council. The Council will also hold an informal public question and answer session regarding agenda items and a formal public comment session.

DATES: The Council meeting will be held from 1 p.m. on Monday, October 28 until 12 noon on Thursday, October 31, 2013.

ADDRESSES: Meeting address: The meeting will be held at the DoubleTree Hotel, 300 Canal Street, New Orleans, LA 70130; telephone: (504) 581-1300.

Council address: Gulf of Mexico Fishery Management Council, 2203 North Lois Avenue, Suite 1100, Tampa, FL 33607.

FOR FURTHER INFORMATION CONTACT: Mr. Douglas Gregory, Executive Director, Gulf of Mexico Fishery Management Council; telephone: (813) 348-1630; fax: (813) 348-1711; email: doug.gregory@gulfcouncil.org.

SUPPLEMENTARY INFORMATION: The items of discussion for each individual management committee agenda are as follows:

Mackerel Management Committee, Monday, October 28, 2013, 1 p.m. Until 3 p.m.

1. Take Final Draft on CMP Amendment 20A (previously CMP Amendment 19).

2. Take Final Draft on CMP Amendment 20B (previously CMP Amendment 20).

3. Discuss Additional Motions from the South Atlantic September 2013 Council meeting.

4. Discuss the Purpose and Timing of CMP Amendment 24.

5. Review SAFMC's Framework Action addressing king mackerel trip limits and allowable Spanish mackerel nets.

6. Other Business—Review the Regional Electronic Technology Implementation Plan.

Sustainable Fisheries/Ecosystem Management Committee, Monday, October 28, 2013, 3 p.m. Until 5:30 p.m.

1. Review of the Law Enforcement Advisory Panel Report.

2. Review of Draft Framework Action—Update Tier 3 ACLs with Revised Marine Recreational Information Program (MRIP) Landings.

3. Review of Generic Amendment—Default Status Determination Criteria, Optimum Yield Definition, and Adoption of Annual Catch Limits for Red Snapper Scoping Document.

4. Review of Framework Action to Define Operating as a Charter Vessel or Headboat in the Gulf of Mexico.

Reef Fish Management Committee, Tuesday, October 29, 2013, 8:30 a.m. Until 11:30 a.m. and 1 p.m. Until 4 p.m.

1. Receive a summary from the October 2013 Reef Fish Scientific and Statistical Committee (SSC) meeting.

2. Take Final Action on Amendment 39—Recreational Red Snapper Regional Management.

3. Review of Draft Framework Action to Rescind Amendment 30B Permit Conditions.

4. Discuss the Ad Hoc Red Snapper IFQ Advisory Panel Charge.

5. Review of Scoping/Options Paper for Sector Separation.

6. Discuss Exempted Fishing Permits related to Reef Fish (if any).

Council Session Agenda, Tuesday, October 29, 2013, 4 p.m. Until 5 p.m.

4 p.m.-4:20 p.m.: Call to Order and Introductions, adoption of agenda and approval of minutes, and approval of proposed 2014 Committee Appointments.

4:20 p.m.-4:30 p.m.: The Council will review and vote on Exempted Fishing Permits (EFP), if any.

4:30 p.m.-5 p.m.: The Council will discuss the Red Drum Tagging Program.

Note: Immediately following recess will be an informal public Question and Answer Session on Gulf of Mexico fishery management issues on Tuesday, October 29, 2013.

Council Session Agenda, Wednesday, October 30, 2013, 8:30 a.m. Until 5:30 p.m.

8:30 a.m.-12 noon: The Council will meet as a committee of the whole for Data Collection, Shrimp and Sustainable Fisheries/Ecosystem Management Committees.

1:30 p.m.-4:30 p.m.: The Council will receive public testimony on Final Mackerel Amendments 20A—Coastal Migratory Pelagics Sale and Permit Provisions and Final Amendment 20B—Modifications to the Coastal Migratory Pelagics Zone Management, and on Final Action—Reef Fish Amendment 39—Regional Management of Recreational Red Snapper. The Council will also hold an open public comment period regarding any other fishery issues or concerns. People wishing to speak before the Council should complete a public comment card prior to the comment period.

4:30 p.m.-5:30 p.m.: The Council will receive a committee report from the Mackerel Management Committee.

Council Session Agenda, Thursday, October 31, 2013, 8:30 a.m. Until 11:45 a.m.

8:30 a.m.-10:30 a.m.: The Council will receive a committee report from the Reef Fish Management Committee.

10:30 a.m.-11:30 a.m.: The Council will review Other Business items: Joint Law Enforcement Report, the SEDAR Steering Committee Report, and review of the SEDAR schedule.

11:30 a.m.-11:45 p.m.: The Council will review the Action Schedule.

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: September 30, 2013.
Tracey L. Thompson,
Acting Deputy Director, Office of Sustainable Fisheries, National Marine Fisheries Service.

[FR Doc. 2013-24287 Filed 10-3-13; 8:45 am]

BILLING CODE 3510-22-P